DEPARTMENT OF COMMERCE

Foreign-Trade Zones Board

[S-44-2018]

Approval of Subzone Status; Brose Tuscaloosa, Inc. Vance, Alabama

On March 6, 2018, the Executive Secretary of the Foreign-Trade Zones (FTZ) Board docketed an application submitted by the City of Birmingham, grantee of FTZ 98, requesting subzone status subject to the existing activation limit of FTZ 98, on behalf of Brose Tuscaloosa, Inc., in Vance, Alabama.

The application was processed in accordance with the FTZ Act and Regulations, including notice in the Federal Register inviting public comment (83 FR 10657, March 12, 2018). The FTZ staff examiner reviewed the application and determined that it meets the criteria for approval. Pursuant to the authority delegated to the FTZ Board Executive Secretary (15 CFR Sec. 400.36(f)), the application to establish Subzone 98E was approved on May 1, 2018, subject to the FTZ Act and the Board's regulations, including Section 400.13, and further subject to FTZ 98's 611.80-acre activation limit.

Dated: May 3, 2018.
Andrew McGilvray,
Executive Secretary.

[FR Doc. 2018-09758 Filed 5-7-18; 8:45 am]

BILLING CODE 3510-DS-P